SOCIAL SECURITY ADMINISTRATION

[Docket No. SSA-2009-0066]

Privacy Act of 1974, as Amended; Computer Matching Program (SSA/Internal Revenue Service (IRS))—Match #1305

AGENCY: Social Security Administration (SSA).

ACTION: Notice of a renewal of an existing computer matching program that is scheduled to expire on March 31, 2010.

SUMMARY: In accordance with the provisions of the Privacy Act, as amended, this notice announces a renewal of an existing computer matching program that we are currently conducting with the IRS.

DATES: We will file a report of the subject matching program with the Committee on Homeland Security and Governmental Affairs of the Senate; the Committee on Oversight and Government Reform of the House of Representatives, and the Office of Information and Regulatory Affairs, Office of Management and Budget (OMB). The matching program will be effective as indicated below.

ADDRESSES: Interested parties may comment on this notice by either telefaxing to (410) 965-0201 or writing to the Deputy Commissioner for Budget, Finance and Management, 800 Altmeyer Building, 6401 Security Boulevard, Baltimore, MD 21235-6401. All comments received will be available for public inspection at this address.

FOR FURTHER INFORMATION CONTACT: The Deputy Commissioner for Budget, Finance and Management as shown above.

SUPPLEMENTARY INFORMATION:

A. General

The Computer Matching and Privacy Protection Act of 1988 (Public Law (Pub. L.) 100-503), amended the Privacy Act (5 U.S.C. 552a) by describing the conditions under which computer matching involving the Federal government could be performed and adding certain protections for persons applying for, and receiving, Federal benefits. Section 7201 of the Omnibus Budget Reconciliation Act of 1990 (Pub. L. 101-508) further amended the Privacy Act regarding protections for such persons.

The Privacy Act, as amended, regulates the use of computer matching by Federal agencies when records in a system of records are matched with other Federal, State, or local government records. It requires Federal agencies involved in computer matching programs to:

(1) Negotiate written agreements with the other agency or agencies participating in the matching programs;

(2) Obtain the approval of the matching agreement by the Data Integrity Boards (DIB) of the participating Federal agencies;

(3) Publish notice of the computer matching program in the Federal Register;

(4) Furnish detailed reports about matching programs to Congress and OMB;

(5) Notify applicants and beneficiaries that their records are subject to matching; and

(6) Verify match findings before reducing, suspending, terminating, or denying a person's benefits or payments.

B. SSA Computer Matches Subject to the Privacy Act

We have taken action to ensure that all of our computer matching programs comply with the requirements of the Privacy Act, as amended.

Dated: March 31, 2010.
Michael G. Gallagher,
Deputy Commissioner for Budget, Finance and Management.

Notice of Computer Matching Program, SSA With the Internal Revenue Service (IRS)

A. Participating Agencies

SSA and IRS.

B. Purpose of the Matching Program

The purpose of this matching program is to establish conditions, terms, and safeguards under which the IRS will disclose to us certain return information for the purpose of verifying eligibility or the correct subsidy percentage of benefits provided under section 1860D-14 of the Social Security Act (Act).

C. Authority for Conducting the Matching Program

Section 6103(1)(7) of the Internal Revenue Code authorizes IRS to disclose return information with respect to unearned income to Federal, State, and local agencies administering certain benefit programs under the Act.

Section 1860D-14 of the Act requires us to verify the eligibility of a person who seeks to be considered for the prescription drug subsidy under Section 1860D of the Act and who self-certifies his or her income, resources and family size.

D. Categories of Records and Persons Covered by the Matching Program

We will provide IRS with identifying information with respect to applicants for, and recipients of, the prescription drug subsidy from the existing Medicare Database (MDB File) system of records, SSA/ORSIS 60-0321, originally published at 69 FR 77816 (December 28, 2004), and as revised at 71 FR 42159 (July 25, 2006). IRS extracts return information with respect to unearned income from its Information Returns Master File (IRMF) system of records, Treasury/IRS 22.061, published at 73 FR 13302 (March 12, 2008), using the same extract as the Disclosure of Information to Federal, State and Local Agencies (DIFSLA) program. We will maintain return information provided by the IRS through this match in the MDB File system of records.

E. Inclusive Dates of the Matching Program

The matching program will become effective no sooner than 40 days after notice of the matching program is sent to Congress and OMB, or 30 days after publication of this notice in the Federal Register, whichever date is later. The matching program will continue for 18 months from the effective date and may be extended for an additional 12 months thereafter, if certain conditions are met.

[FR Doc. 2010-8081 Filed 4-8-10; 8:45 am]

BILLING CODE 4191-02-P